DEPARTMENT OF HEALTH AND HUMAN SERVICES

Request for Comments on the Ethical Considerations of Neuroscience Research and the Application of Neuroscience Research Findings

AGENCY: Department of Health and Human Services, Office of the Secretary, Presidential Commission for the Study of Bioethical Issues.

ACTION: Notice.

SUMMARY: The Presidential Commission for the Study of Bioethical Issues is requesting public comment on the ethical considerations of neuroscience research and the application of neuroscience research findings.

DATES: To ensure consideration, comments must be received by April 1, 2014. Comments received after this date will be considered only as time permits.

ADDRESSES: Individuals, groups, and organizations interested in commenting on this topic may submit comments by email to info@bioethics.gov or by mail to the following address: Public Commentary, Presidential Commission for the Study of Bioethical Issues, 1425 New York Ave. NW., Suite C-100, Washington, DC 20005.

FOR FURTHER INFORMATION CONTACT: Hillary Wicai Viers, Communications Director, Presidential Commission for the Study of Bioethical Issues. Telephone: 202-233-3960. E-Mail: hillary.viers@bioethics.gov. Additional information may be obtained at http://www.bioethics.gov.

SUPPLEMENTARY INFORMATION: On November 24, 2009, the President established the Presidential Commission for the Study of Bioethical Issues (the Commission) to advise him on bioethical issues generated by novel and emerging research in biomedicine and related areas of science and technology. The Commission is charged with identifying and promoting policies and practices that ensure ethically responsible conduct of scientific research and health care delivery. Undertaking these duties, the Commission seeks to identify and examine specific bioethical, legal, and social issues related to potential scientific and technological advances; examine diverse perspectives and possibilities for international collaboration on these issues; and recommend legal, regulatory, or policy actions as appropriate.

The Commission is considering the conduct and implications of neuroscience research. On July 1, 2013, the President asked the Commission to “identify proactively a set of core ethical standards—both to guide neuroscience research and to address some of the ethical dilemmas that may be raised by the application of neuroscience research findings.” The President requested that the Commission seek input from “scientists, ethicists, legal scholars, and members of the public” to inform its deliberations.

The Commission is interested in receiving comments from individuals, groups, and professional communities regarding the ethical considerations of neuroscience research and the application of neuroscience research findings. The Commission is particularly interested in receiving public commentary regarding:

• The diversity and scope of ethical considerations related to neuroscience as a field;

• core ethical standards that guide neuroscience research, including consistency (or lack thereof) across disciplines, and potential tension among the guiding standards;

• advances in neuroscience research that raise novel ethical issues or heighten existing ethical tensions;

• whether emphasis on particular aspects of the Common Rule (or other research ethics regulations) is needed given the particular implications of some neuroscience research or whether any part of the Common Rule needs clarification in order to adequately protect participants in neuroscience research specifically;

• potential implications of discoveries that might flow from studies of the brain and questions that might arise from neuroscience research findings and their applications, including questions about the potential implications for privacy, personal agency, and moral responsibility for one's actions; stigmatization and discrimination; and the appropriate use of neuroscience in the justice system;

• strategies for integrating from a project's inception ethical considerations into neuroscience research, technological development, and scientific research generally; and

• ethical considerations concerning communication about neuroscience research and neuroscience research applications by scientists, journalists, and others.

To this end, the Commission is inviting interested parties to provide input and advice through written comments.

Comments will be publicly available, including any personally identifiable or confidential business information that they contain. Trade secrets should not be submitted.

Dated: January 17, 2014.
Lisa M. Lee,
Executive Director, Presidential Commission for the Study of Bioethical Issues.

[FR Doc. 2014-02072 Filed 1-30-14; 8:45 am]

BILLING CODE 4154-06-P